DEPARTMENT OF TRANSPORTATION

Federal Highway Administration

Notice of Final Federal Agency Actions on Proposed Modified Collector Street in California; Statute of Limitations on Claims

AGENCY: Federal Highway Administration (FHWA), DOT.

ACTION: Notice of limitation on claims for judicial review of actions by the California Department of Transportation (Caltrans), pursuant to 23 U.S.C. 327.

SUMMARY: The FHWA, on behalf of Caltrans, is issuing this notice to announce actions taken by Caltrans that are final within the meaning of 23 U.S.C. 139(l)(1). The actions relate to the proposed extension of Century Boulevard from Grape Street to Alameda Street within the City of Los Angeles in the County of Los Angeles, State of California. Those actions grant licenses, permits, and approvals for the project.

DATES: By this notice, the FHWA, on behalf of Caltrans, is advising the public of final agency actions subject to 23 U.S.C. 139(l)(1). A claim seeking judicial review of the Federal agency actions on the roadway project will be barred unless the claim is filed on or before September 8, 2016. If the Federal law that authorizes judicial review of a claim provides a time period of less than 150 days for filing such claim, then that shorter time period still applies.

FOR FURTHER INFORMATION CONTACT: For Caltrans: Mine Struhl, Branch Chief, Environmental Planning Division, California Department of Transportation—District 7, 100 South Main Street, Los Angeles, California, 8 a.m. to 5 p.m., 213-897-5446, mine.struhl@dot.ca.gov.

SUPPLEMENTARY INFORMATION: Effective July 1, 2007, the Federal Highway Administration (FHWA) assigned, and the California Department of Transportation (Caltrans) assumed, environmental responsibilities for this project pursuant to 23 U.S.C. 327. Notice is hereby given that Caltrans, have taken final agency actions subject to 23 U.S.C. 139(l)(1) by issuing licenses, permits, and approvals for the following Century Boulevard extension project in the State of California: Caltrans proposes to extend Century Boulevard from Grape Street eastward, curving around the new central park to connect with Tweedy Boulevard, where it crosses the Alameda corridor. The proposed street will be approximately half a mile long, 74 feet to 86 feet wide, and will have adequate width space to accommodate buses. The Federal Project Identification Number associated with the project is CML-5006(810). The purpose of the project is to create a multimodal roadway that extends Century Boulevard between Alameda Street and Grape Street, where currently no streets, bike lanes, sidewalks, or pedestrian enhancements exist. Century Boulevard between Grape Street and Alameda Street will be reclassified from a Major Highway Class II Arterial Street to a Modified Collector Street. The actions by the Federal agencies, and the laws under which such actions were taken, are described in the Environmental Assessment (EA) with Finding of No Significant Impact (FONSI) for the project, approved on February 5, 2016, and in other documents in the FHWA project records. The EA/FONSI and other project records are available by contacting Caltrans at the address provided above. The EA/FONSI can be viewed and downloaded from the project Web site at http://www.dot.ca.gov/dist07/resources/envdocs/. This notice applies to all Federal agency decisions as of the issuance date of this notice and all laws under which such actions were taken, including but not limited to:

1. Council on Environmental Quality regulations;

2. National Environmental Policy Act (NEPA);

3. Moving Ahead for Progress in the 21st Century Act (MAP-21);

4. Department of Transportation Act of 1966;

5. Federal Aid Highway Act of 1970;

6. Clean Air Act Amendments of 1990;

7. Noise Control Act of 1970;

8. 23 CFR part 772 FHWA Noise Standards, Policies and Procedures;

9. Department of Transportation Act of 1966, Section 4(f);

10. Clean Water Act of 1977 and 1987;

11. Endangered Species Act of 1973;

12. Migratory Bird Treaty Act;

13. National Historic Preservation Act of 1966, as amended;

14. Historic Sites Act of 1935; and,

15. Executive Order 13112, Invasive Species.

(Catalog of Federal Domestic Assistance Program Number 20.205, Highway Planning and Construction. The regulations implementing Executive Order 12372 regarding intergovernmental consultation on Federal programs and activities apply to this program.)

Authority: 23 U.S.C. 139(l)(1).

Omar A. Elkassed,
Senior Transportation Planner, Federal Highway Administration, California Division.

[FR Doc. 2016-08243 Filed 4-8-16; 8:45 am]

BILLING CODE 4910-RY-P